DEPARTMENT OF ENERGY

Federal Energy Regulatory Commission

Combined Notice of Filings #2

Take notice that the Commission received the following electric corporate filings:

Docket Numbers: EC12-20-000.

Applicants: Duke Energy Ohio, Inc., Duke Energy Kentucky, Inc.

Description: Application of Duke Energy Ohio, Inc. and Duke Energy Kentucky, Inc.

Filed Date: 11/02/2011.

Accession Number: 20111102-5094.

Comment Date: 5 p.m. ET on 11/23/2011.

Docket Numbers: EC12-21-000.

Applicants: ITC Midwest LLC.

Description: ITC Midwest Section 203 Application regarding Huxley Substation Transmission Assets.

Filed Date: 11/02/2011.

Accession Number: 20111102-5096.

Comment Date: 5 p.m. ET on 11/23/2011.

Take notice that the Commission received the following electric rate filings:

Docket Numbers: ER10-1478-003.

Applicants: Pennsylvania Electric Company.

Description: Revised MBR Power Sales Tariff to be effective 11/2/2011.

Filed Date: 11/02/2011.

Accession Number: 20111102-5069.

Comment Date: 5 p.m. ET on 11/23/2011.

Docket Numbers: ER10-2834-001; ER10-2821-001.

Applicants: Munnsville Wind Farm, LLC, Stony Creek Wind Farm, LLC.

Description: Notice of Change in Status of Munnsville Wind Farm, LLC and Stony Creek Wind Farm, LLC.

Filed Date: 11/02/2011.

Accession Number: 20111102-5117.

Comment Date: 5 p.m. ET on 11/23/2011.

Docket Numbers: ER11-3614-004

Applicants: Glacial Energy Holdings.

Description: Substitute Baseline Tariff to be effective 11/1/2011.

Filed Date: 11/02/2011.

Accession Number: 20111102-5008.

Comment Date: 5 p.m. ET on 11/23/2011.

Docket Numbers: ER11-4214-000.

Applicants: PacifiCorp.

Description: NV Energy Refund Report to be effective N/A.

Filed Date: 11/02/2011.

Accession Number: 20111102-5068.

Comment Date: 5 p.m. ET on 11/23/2011.

Docket Numbers: ER11-4596-001.

Applicants: South Carolina Electric & Gas Company.

Description: Amendment of Pending Tariff Filing Attachment C to be effective 1/1/2012.

Filed Date: 11/01/2011.

Accession Number: 20111101-5095.

Comment Date: 5 p.m. ET on 11/22/2011.

Docket Numbers: ER11-4677-001

Applicants: NextEra Energy Montezuma II Wind, LLC.

Description: NextEra Energy Montezuma II Wind, LLC Amendment to MBR Application and Revision to be effective 11/2/2011.

Filed Date: 11/01/2011.

Accession Number: 20111101-5182.

Comment Date: 5 p.m. ET on 11/15/2011.

Docket Numbers: ER12-52-001.

Applicants: Windpower Partners 1993, L.P.

Description: Windpower Partners 1993, L.P. Amendment to MBR Application and Revision to be effective 11/2/2011.

Filed Date: 11/01/2011.

Accession Number: 20111101-5183.

Comment Date: 5 p.m. ET on 11/15/2011.

Docket Numbers: ER12-129-001.

Applicants: Spindle Hill Energy LLC.

Description: Supplement to October 20, 2011 Market-Based Rate Tariff Filing to be effective 12/20/2011.

Filed Date: 11/02/2011.

Accession Number: 20111102-5009.

Comment Date: 5 p.m. ET on 11/23/2011.

Docket Numbers: ER12-323-000.

Applicants: San Joaquin Cogen, LLC.

Description: SJC First Revised MBR to be effective 9/10/2010.

Filed Date: 11/02/2011.

Accession Number: 20111102-5070.

Comment Date: 5 p.m. ET on 11/23/2011.

Docket Numbers: ER12-324-000

Applicants: PJM Interconnection, L.L.C.

Description: Queue No. W1-105; Original Service Agreement No. 3090 to be effective 10/4/2011.

Filed Date: 11/02/2011.

Accession Number: 20111102-5071.

Comment Date: 5 p.m. ET on 11/23/2011.

Docket Numbers: ER12-325-000.

Applicants: Florida Power & Light Company.

Description: FPL and Lee County Electric Cooperative, Inc. First Revised SA No. 266 to be effective 1/1/2012.

Filed Date: 11/02/2011.

Accession Number: 20111102-5072.

Comment Date: 5 p.m. ET on 11/23/2011.

Docket Numbers: ER12-326-000.

Applicants: PJM Interconnection, L.L.C.

Description: Queue No. W1-106; Original Service Agreement No. 3091 to be effective 10/4/2011.

Filed Date: 11/02/2011.

Accession Number: 20111102-5077.

Comment Date: 5 p.m. ET on 11/23/2011.

Docket Numbers: ER12-327-000

Applicants: L&L Energy LLC.

Description: Baseline refile to be effective 11/3/2011.

Filed Date: 11/02/2011.

Accession Number: 20111102-5080.

Comment Date: 5 p.m. ET on 11/23/2011.

Docket Numbers: ER12-328-000.

Applicants: Stony Creek Wind Farm, LLC.

Description: Application For Category 1 Seller Designation In Southeast Region to be effective 1/1/2011.

Filed Date: 11/02/2011.

Accession Number: 20111102-5097.

Comment Date: 5 p.m. ET on 11/23/2011.

Docket Numbers: ER12-329-000.

Applicants: Ontario Power Generation, Inc.

Description: Refund Report of Ontario Power Generation, Inc.

Filed Date: 11/02/2011.

Accession Number: 20111102-5098.

Comment Date: 5 p.m. ET on 11/23/2011.

Docket Numbers: ER12-330-000.

Applicants: Florida Power & Light Company.

Description: FPL and Seminole Electric Cooperative, Inc. Ninth Revised SA. No. 162 to be effective 1/1/2012.

Filed Date: 11/02/2011.

Accession Number: 20111102-5103.

Comment Date: 5 p.m. ET on 11/23/2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2011.
Nathaniel J. Davis, Sr.,
Deputy Secretary.

[FR Doc. 2011-29004 Filed 11-8-11; 8:45 am]

BILLING CODE 6717-01-P